DEPARTMENT OF HEALTH AND HUMAN SERVICES

Centers for Disease Control and Prevention

[30-Day-11-0798]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Health Marketing (OMB No. 0920-0798, exp. 01/31/2011)—Revision—Office of the Associate Director for Communication (OADC), Centers for Disease Control and Prevention (CDC).

Background and Brief Description

Today, CDC is globally recognized for conducting research and investigations and for its action oriented approach. CDC applies research and findings to improve people's daily lives and responds to health emergencies—something that distinguishes CDC from its peer agencies.

CDC is committed to achieving true improvements in people's health. To do this, the agency is defining specific health protection goals to prioritize and focus its work and investments and measure progress.

It is imperative that CDC provide high-quality timely information and programs in the most effective ways to help people, families, and communities protect their health and safety. Through continuous consumer feedback, prevention research, and public health information technology, we identify and evaluate health needs and interests, translate science into actions to meet those needs, and engage the public in the excitement of discovery and the progress being made to improve the health of the Nation. In our outreach to partners, we build relationships that model shared learning, mutual trust, and diversity in points of view and sectors of society.

OADC is requesting a 3-year extension of OMB 0920-0798, Health Marketing, to provide feedback on the development, implementation and satisfaction regarding public health services, products, communication campaigns and information. The information will be collected using standard qualitative and quantitative methods such as interviews, focus groups, and panels, as well as questionnaires administered in person, by telephone, by mail, by e-mail, and online. More specific types of studies may include: User experience and user-testing; concept/product/package development testing; brand positioning/identity research; customer satisfaction surveying; ethnography/observational studies; and mystery shopping. The data will be used to provide input to the development, delivery and communication of public health services and information at CDC and to address emerging programmatic needs.

Every National Center and Office at CDC will have the opportunity to utilize this generic clearance. There is no cost to the respondents other than their time. The total estimated burden hours are 11,250.

Type of respondents | Number of respondents | Number of responses per respondent | Average burden per response (in hours)
CDC Partners, Public Health Professionals, Health Care Professionals, General Public | 25,000 | 1 | 27/60

Dated: October 19, 2010.
Carol E. Walker,
Acting Reports Clearance Officer, Centers for Disease Control and Prevention.

[FR Doc. 2010-26876 Filed 10-22-10; 8:45 am]

BILLING CODE 4163-18-P